DEPARTMENT OF AGRICULTURE

Forest Service

Withdrawal of the Rocky Mountain Regional Guide and the Transfer of Decisions Therein to a Regional Supplement to the Forest Service Directive System

AGENCY: Forest Service, USDA.

ACTION: Notice.

SUMMARY: The intended effect of this action is to comply with 36 CFR part 219 § 219.35(e) which directs that within 1 year of November 9, 2000, the Regional Forester must withdraw the Regional Guide. When a Regional Guide is withdrawn, the Regional Forester must identify the decisions in the Regional Guide that are to be transferred to a regional supplement of the Forest Service directive system (36 CFR 200.4) or to one or more plans and give notice in the Federal Register of these actions.

DATES: This action will be effective February 1, 2002.

FOR FURTHER INFORMATION CONTACT: Chris Liggett, Land Management Planning Staff; Rocky Mountain Region; P.O. Box 25127; Lakewood, CO 80225. Phone: (303) 275-5158.

SUPPLEMENTARY INFORMATION: This action accomplishes withdrawal of the Rocky Mountain Regional Guide. The Standards and Guidelines therein (Chapter 3) will be transferred to a regional supplement to FSM 1920 in the Forest Service Directive System.

Dated: January 22, 2002.
Rick D. Cables,
Regional Forester.

[FR Doc. 02-2802 Filed 2-5-02; 8:45 am]

BILLING CODE 3410-11-M